DEPARTMENT OF TRANSPORTATION

Federal Aviation Administration

14 CFR Part 39

[Docket No. FAA-2013-0341; Directorate Identifier 2012-SW-025-AD; Amendment 39-17557; AD 2013-16-19]

RIN 2120-AA64

Airworthiness Directives; Eurocopter France Helicopters

AGENCY: Federal Aviation Administration (FAA), DOT.

ACTION: Final rule.

SUMMARY: We are adopting a new airworthiness directive (AD) for Eurocopter France (Eurocopter) Model EC120B and EC130B4 helicopters with a certain emergency flotation gear (float) installed. This AD requires inspecting the float for chafing of the fabric covering and adding protectors to the float installation to prevent contact between the float and the protruding sections of the installation. This AD was prompted by a report of a float that would not inflate during overhaul because one of the float compartments was punctured due to chafing. The actions of this AD are intended to prevent failure of float and subsequent loss of control of the helicopter during an emergency water landing.

DATES: This AD is effective September 27, 2013.

The Director of the Federal Register approved the incorporation by reference of certain documents listed in this AD as of September 27, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Discussion

On April 15, 2013, at 78 FR 22213, the Federal Register published our notice of proposed rulemaking (NPRM), which proposed to amend 14 CFR part 39 to include an AD that would apply to Eurocopter Model EC120B helicopters with a left-hand (LH) emergency flotation gear, part number (P/N) 215674-0, 215674-1, or 215674-2 installed, fitted with a float, P/N 215481-0; or with a right-hand (RH) emergency flotation gear, P/N 215675-0, 215675-1, or 215675-2 installed, fitted with a float, P/N 215482-0; and Model EC130B4 helicopters with a LH emergency flotation gear P/N 217227-0 installed, fitted with a float P/N 217174-0; or with a RH emergency flotation gear P/N 217228-0 installed, fitted with a float, P/N 217195-0. The NPRM proposed to require inspecting the float for chafing of the fabric covering and adding protectors to the float installation to prevent contact between the float and the protruding sections of the installation. The proposed requirements were intended to prevent failure of float and subsequent loss of control of the helicopter during an emergency water landing.

The NPRM was prompted by AD No. 2011-0185, dated September 23, 2011 (AD 2011-0185), issued by the European Aviation Safety Agency (EASA), which is the Technical Agent for the Member States of the European Union. EASA issued AD 2011-0185 to correct an unsafe condition for Eurocopter Model EC120 and EC130 helicopters. EASA advises that during overhaul of an emergency flotation gear installation, it was impossible to inflate the RH float according to the instructions in the equipment manufacturer's manual. An investigation revealed that one of the compartments in the float was punctured and several areas of the LH and RH floats were damaged, caused by chafing between the float and the protruding sections of the supply bars and banjo unions. To address this potentially unsafe condition, EASA issued AD No. 2009-0190, dated August 26, 2009 (AD 2009-0190), which required repetitive inspections of the floats to detect chafing. Aerazur, the float manufacturer, later developed protectors to be installed on the floats to eliminate interference between the float and the blunt parts of the installation. EASA then issued AD 2011-0185, which superseded AD 2009-0190 and required installation of the protectors on the floats as terminating action for the repetitive inspections.

Comments

We gave the public the opportunity to participate in developing this AD, but we did not receive any comments on the NPRM (78 FR 22213, April 15, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed

Related Service Information

Eurocopter has issued Alert Service Bulletin (ASB) No. 05A011, Revision 0, dated June 8, 2009 (ASB 05A011), for Model EC120B helicopters and ASB No. 05A008, Revision 0, dated June 8, 2009 (ASB 05A008), for Model EC130B4 helicopters. Both ASBs specify inspecting the floats for deterioration and chafing at specified intervals and, if necessary, repairing the floats.

Eurocopter has also issued ASB No. EC120-25A026, Revision 0, dated July 11, 2011 (ASB EC120-25A026), for Model EC120B helicopters and ASB No. EC130-25A042, Revision 0, dated July 11, 2011 (ASB EC130-25A042), for Model EC130B4 helicopters. Both ASBs specify modifying certain part-numbered LH and RH emergency flotation gear by adding protectors onto the rear bracket and supply couplings of the float installation. The ASBs specify following procedures in Aerazur Service Bulletin (SB) No. 25-69-87, dated March 14, 2011, for floats installed on Model EC120B helicopters and Aerazur SB No. 25-69-58, dated March 14, 2011, for floats installed on Model EC130B4 helicopters. Each Aerazur SB is incorporated as an appendix to the corresponding Eurocopter ASB.

Costs of Compliance

We estimate that this AD will affect 60 helicopters of U.S. Registry. Based on an average labor rate of $85 per work-hour, we estimate that operators may incur the following costs to comply with this AD. Inspecting the floats for chafing will require about .5 hour, for a cost per helicopter of $43, and a cost to U.S. operators of $2,580. Modifying the floats with protective covers will require about 1 hour and required parts cost about $500, for a cost per helicopter of $585, and a cost to U.S. operators of $35,100. The total estimated cost of this AD is $628 per helicopter and $37,680 for the U.S. operator fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-19 Eurocopter France: Amendment 39-17557; Docket No. FAA-2013-0341; Directorate Identifier 2012-SW-025-AD.

(a) Applicability

(1) This AD applies to the following helicopters, certificated in any category:

(i) Model EC120B helicopters with a left-hand (LH) emergency flotation gear, part number (P/N) 215674-0, 215674-1, or 215674-2 installed, fitted with a float, P/N 215481-0; or with a right-hand (RH) emergency flotation gear, P/N 215675-0, 215675-1, or 215675-2 installed, fitted with a float, P/N 215482-0; and

(ii) Model EC130B4 helicopters with a LH emergency flotation gear P/N 217227-0 installed, fitted with a float P/N 217174-0; or with a RH emergency flotation gear P/N 217228-0 installed, fitted with a float, P/N 217195-0.

(b) Unsafe Condition

This AD defines the unsafe condition as chafing of the float due to contact with the protruding sections of the supply bars and banjo sections of the emergency flotation gear installation. This condition could result in the float becoming punctured, failure of the float to inflate, and subsequent loss of control of the helicopter during an emergency water landing.

(c) Effective Date

This AD becomes effective September 27, 2013.

(d) Compliance

You are responsible for performing each action required by this AD within the specified compliance time unless it has already been accomplished prior to that time.

(e) Required Actions

(1) For emergency flotation gear that have accumulated 250 or more hours time-in service (TIS), within 50 hours TIS, accomplish the following:

(i) Undo the Velcro tapes and remove the break laces. Remove the caps from the cover end. Unfold the cover.

(ii) Inspect each float area in contact with the emergency flotation gear protruding parts (supply bar, banjo union, and fittings) for chafing as shown in Figure 1 of Eurocopter Alert Service Bulletin (ASB) No. 05A011, Revision 0, dated June 8, 2009, or Eurocopter ASB No. 05A008, Revision 0, dated June 8, 2009, as appropriate for your model helicopter.

(iii) If there is any chafing between the protruding parts and the float fabric, before further flight, inspect the flotation gear.

(A) Unfold and visually inspect the float assemblies for any cuts, tears, punctures, or abrasion. Replace the cover if the internal polycarbonate sheet is cut or if the cover is cut or punctured.

(B) Lightly inflate the floats to approximately 50 hectopascals through the manual inflating valve and inspect the fabric panels and girts for any cuts, tears, punctures, or abrasion. If there is a cut, tear, puncture, or any abrasion, repair the float.

(2) For emergency floatation gear that have accumulated less than 250 hours TIS, on or before accumulating 300 hours TIS, inspect the float gear as described in paragraph (e)(1)(i) through (iii) of this AD.

(3) Within 300 hours TIS:

(i) For Model EC120B helicopters, install protectors on and re-identify the P/N of each LH and RH emergency floatation gear as described in the Operating Instructions, paragraph 2.C., of Aerazur Service Bulletin (SB) No. 25-69-87, dated March 14, 2011. The Aerazur SB is attached as an appendix to Eurocopter Alert Service Bulletin (ASB) No. EC120-25A026, Revision 0, dated July 11, 2011.

(ii) For Model EC130B4 helicopters, install protectors on and re-identify the P/N of each LH and RH emergency floatation gear as described in the Operating Instructions, paragraph 2., of Aerazur SB No. 25-69-58, dated March 14, 2011. The Aerazur SB is attached as an appendix to Eurocopter ASB No. EC130-25A042, Revision 0, dated July 11, 2011.

(f) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) The subject of this AD is addressed in European Aviation Safety Agency AD No. 2011-0185, dated September 23, 2011, which can be found in the AD Docket on the Internet at http://www.regulations.gov.

(2) Eurocopter ASB No. EC120-25A026, Revision 0, dated July 11, 2011, and Eurocopter ASB No. EC130-25A042, Revision 0, dated July 11, 2011, which are not incorporated by reference, contain additional information about the subject of this AD. You may view this service information at the FAA, Office of the Regional Counsel, Southwest Region, 2601 Meacham Blvd., Room 663, Fort Worth, Texas 76137. For information on the availability of this material at the FAA, call (817) 222-5110.

(h) Subject

Joint Aircraft Service Component (JASC) Code: 3212: Emergency Flotation Section.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Aerazur SB No. 25-69-58, dated March 14, 2011, which is attached as an appendix to Eurocopter ASB No. EC130-25A042, Revision 0, dated July 11, 2011.

(ii) Aerazur SB No. 25-69-87, dated March 14, 2011, which is attached as an appendix to Eurocopter ASB No. EC120-25A026, Revision 0, dated July 11, 2011.

(iii) Eurocopter ASB No. 05A008, Revision 0, dated June 8, 2009.

(iv) Eurocopter ASB No. 05A011, Revision 0, dated June 8, 2009.

(3) For Eurocopter and Aerazur service information identified in this AD, contact American Eurocopter Corporation, 2701 N. Forum Drive, Grand Prairie, TX 75052; telephone (972) 641-0000 or (800) 232-0323; fax (972) 641-3775; or at http://www.eurocopter.com/techpub.

(4) You may view this service information that is incorporated by reference in the AD Docket on the Internet at http://www.regulations.gov.

(5) You may also view this service information that is incorporated by reference at the National Archives and Records Administration (NARA). For information on the availability of this material at NARA, call (202) 741-6030, or go to: http://www.archives.gov/federal-register/cfr/ibr-locations.html.

Issued in Fort Worth, Texas, on August 2, 2013.
Lance T. Gant,
Acting Directorate Manager, Rotorcraft Directorate, Aircraft Certification Service.

[FR Doc. 2013-19438 Filed 8-22-13; 8:45 am]

BILLING CODE 4910-13-P